ENVIRONMENTAL PROTECTION AGENCY

40 CFR Part 1090

[EPA-HQ-OAR-2024-0143; FRL-8513-03-OAR]

RIN 2060-AV26

Fuels Regulatory Streamlining Sampling and Testing Updates; Correction

AGENCY: Environmental Protection Agency (EPA).

ACTION: Final rule; correction.

SUMMARY: The Environmental Protection Agency (EPA) is correcting a final rule that appeared in the Federal Register on January 15, 2025. The final rule made revisions, updates, and corrections to EPA's streamlined fuel quality regulations. This document corrects an error in the regulatory text in the final rule, but does not make any substantive changes.

DATES: This correction is effective on July 1, 2025.

ADDRESSES: EPA has established a docket for this action under Docket ID No. EPA-HQ-OAR-2024-0143. All documents in the docket are listed on the https://www.regulations.gov website. Although listed in the index, some information is not publicly available, e.g., confidential business information (CBI) or other information whose disclosure is restricted by statute. Certain other material is not available on the internet and will be publicly available only in hard copy form. Publicly available docket materials are available electronically through https://www.regulations.gov.

FOR FURTHER INFORMATION CONTACT: Nick Parsons, Office of Transportation and Air Quality, Assessment and Standards Division, Environmental Protection Agency, 2000 Traverwood Drive, Ann Arbor, MI 48105; telephone number: 734-214-4479; email address: parsons.nick@epa.gov.

SUPPLEMENTARY INFORMATION: EPA is correcting an inadvertent error in the regulatory text for the final rule. Equation 1 to 40 CFR 1090.1355(a) should read as follows: RVP = 0.956 • Ptotal −0.347.

Section 553(b)(B) of the Administrative Procedure Act, 5 U.S.C. 553(b)(B), provides that, when an agency for good cause finds that public notice and comment procedures are impracticable, unnecessary, or contrary to the public interest, the agency may issue a rule without providing notice and an opportunity for public comment. EPA has determined that there is good cause for making this technical correction final without prior proposal and opportunity for comment because such notice and opportunity for comment is unnecessary as the technical correction is for minor typographical, non-substantive errors only.

Correction

PART 1090 [CORRECTED]

In FR Doc. 2024-31218 appearing at 90 FR 4320 in the Federal Register of Wednesday, January 15, 2025, the following correction is made:

§ 1090.1355 [Corrected]

1. On page 4361, in the third column, in § 1090.1355, in Equation 1 to paragraph (a), “RVP = 0.946 .Ptotal −0.347” is corrected to read:

“RVP = 0.956 • Ptotal −0.347”.

Abigale Tardif,
Principal Deputy Assistant Administrator, Office of Air and Radiation.

[FR Doc. 2025-10528 Filed 6-10-25; 8:45 am]

BILLING CODE 6560-50-P